DEPARTMENT OF COMMERCE

National Oceanic and Atmospheric Administration

[RTID 0648-XE320]

Atlantic Highly Migratory Species; Exempted Fishing, Scientific Research, Display, and Shark Research Fishery Permits; Letters of Acknowledgment

AGENCY: National Marine Fisheries Service (NMFS), National Oceanic and Atmospheric Administration (NOAA), Commerce.

ACTION: Notice of intent; request for comments.

SUMMARY: NMFS announces its intent to issue exempted fishing permits (EFPs), scientific research permits (SRPs), display permits, letters of acknowledgment (LOAs), and shark research fishery permits for Atlantic highly migratory species (HMS) (tunas, billfish, swordfish, and sharks) in 2025. EFPs and related permits other than LOAs exempt permit holders from specific portions of the regulations for the purposes of scientific research, data collection, the investigation of bycatch, and public display, among other things. LOAs acknowledge that researchers are conducting scientific research activities on board a scientific research vessel. Generally, EFPs and related permits are valid from the date of issuance through the end of the calendar year for which they are issued, unless otherwise specified in the permit, subject to the terms and conditions of individual permits.

DATES: NMFS will consider written comments received in response to this notice when issuing EFPs and related permits. Submit comments on or before November 27, 2024.

ADDRESSES: You may submit comments on this document, identified by NOAA-NMFS-2024-0109, electronically via the Federal e-Rulemaking Portal. Visit https://www.regulations.gov and type “NOAA-NMFS-2024-0109” in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Elsa Gutierrez, 301-427-8503, elsa.gutierrez@noaa.gov.

SUPPLEMENTARY INFORMATION: HMS fisheries (tunas, billfish, swordfish, and sharks) are managed under the 2006 Consolidated HMS Fishery Management Plan (FMP) and its amendments pursuant to the authority of the Magnuson-Stevens Fishery Conservation and Management Act (Magnuson-Stevens Act; 16 U.S.C. 1801 et seq.) and consistent with the Atlantic Tunas Convention Act (ATCA; 16 U.S.C. 971 et seq.). ATCA is the implementing statute for binding recommendations of the International Commission for the Conservation of Atlantic Tunas. HMS implementing regulations are at 50 CFR part 635. The regulations specific to HMS EFPs and related permits can be found at § 635.32.

NMFS issues EFPs and related permits in cases where HMS regulations (e.g., fishing seasons, prohibited species, authorized gear, closed areas, minimum sizes) may otherwise prohibit scientists and other interested parties from conducting scientific research; acquiring information and data related to HMS and fishing for HMS; enhancing safety at sea; collecting HMS for public education or display; investigating bycatch, economic discards, or regulatory discards in HMS fisheries; or conducting other fishing activities that NMFS has an interest in permitting or acknowledging. Consistent with §§ 600.745 and 635.32, a NMFS Regional Administrator or Director may authorize, for limited testing, public display, data collection, exploratory fishing, compensation fishing, conservation engineering, health and safety surveys, environmental cleanup, and/or hazard removal purposes, the target or incidental harvest of species managed under an FMP or fishery regulations that would otherwise be prohibited. These permits exempt permit holders from the specific portions of the regulations that may otherwise be prohibited. Collection of HMS under EFPs, SRPs, display permits, and shark research fishery permits represents a small portion of the overall fishing mortality for HMS, and NMFS counts this mortality against the relevant quota, as appropriate and applicable. The terms and conditions of individual permits are unique; however, all permits include reporting requirements, limit the number and/or species of HMS to be collected (if appropriate), and only authorize collection and/or other research activities in Federal waters of the Atlantic Ocean, Gulf of Mexico, and Caribbean Sea (for Atlantic tunas, we may authorize the activities all the way to shore).

The Magnuson-Stevens Act exempts any scientific research activity conducted by a scientific research vessel from the definition of “fishing.” NMFS issues LOAs acknowledging such bona fide research activities involving species that are directly regulated only under the Magnuson-Stevens Act (e.g., most shark species) and not under ATCA. NMFS generally does not consider recreational or commercial vessels to be bona fide research vessels. However, if the researcher contracts a vessel only to conduct research and not participate in any commercial or recreational fishing activities during that research, NMFS may consider those vessels as bona fide research platforms while conducting the specified research. For example, in the past, NMFS has determined that commercial pelagic longline fishing vessels assisting with shark population surveys may be considered “bona fide research vessels” while engaged only in the specified research. For such activities, NMFS reviews the scientific research plans and may issue an LOA acknowledging that the proposed activity is scientific research for purposes of the Magnuson-Stevens Act.

While scientific research is not defined as “fishing” subject to the Magnuson-Stevens Act, scientific research is not exempt from regulation under ATCA. Therefore, NMFS issues SRPs that authorize researchers to conduct scientific research related to HMS from bona fide research vessels for species managed directly under this statute (i.e., tunas, swordfish, and billfish). One example of research conducted under SRPs would be tunas, swordfish, and billfish scientific surveys conducted from NOAA research vessels.

NMFS issues EFPs for activities conducted from commercial or recreational fishing vessels. Examples of activities conducted under EFPs include collection of young-of-the-year bluefin tuna for genetic research from recreational fishing vessels; conducting billfish larval tows to determine billfish habitat use, life history, and population structure from private vessels; and tagging sharks caught on commercial or recreational fishing gear to determine post-release mortality rates from commercial or recreational fishing vessels.

NMFS issues display permits for the collection of HMS for public display. Collection of HMS for public display in aquaria often involves collection when the commercial fishing seasons are closed, collection of otherwise prohibited species (e.g., sand tiger sharks), and collection of fish below the regulatory minimum size. Not all HMS can be collected for public display. NMFS published the final rule for Amendment 2 to the 2006 Consolidated HMS FMP (73 FR 35778, June 24, 2008; corrected 73 FR 40658, July 15, 2008) that, among other things, prohibited the collection of dusky sharks for public display. In 2022, NMFS published a final rule (87 FR 39373, July 1, 2022) that, among other things, prohibited the collection of shortfin mako sharks for public display.

The majority of EFPs and related permits described in this annual notice relate to scientific sampling and tagging of HMS within existing quotas, and the impacts of these activities were previously analyzed in various environmental assessments and environmental impact statements for HMS management. In most such cases, NMFS intends to issue these permits without additional opportunity for public comment beyond what is provided in this notice. Occasionally, NMFS receives applications which may warrant further consideration, such as those for unanticipated research activities, for research that is outside the scope of general scientific sampling and tagging of HMS, or for research that is particularly controversial. In those instances, NMFS will provide additional opportunity for public comment, consistent with the regulations at § 600.745.

On May 10, 2024, the Environmental Protection Agency published a notice announcing the availability of the Final Environmental Impact Statement for Amendment 15 to the 2006 Consolidated HMS FMP (89 FR 40481). In Amendment 15, NMFS prefers an alternative that would allow for cooperative research via an EFP within the various areas that are currently closed to pelagic longline fishing. NMFS would use the data collected to help assess the effectiveness of the pelagic longline closed areas. At this time, NMFS has not yet published any final rule for Amendment 15. NMFS is not aware of any researchers who plan to conduct research specific to the objectives in Amendment 15 in the closed areas in 2025. If after the publication of any final rule, NMFS receives such applications, NMFS may consider providing additional opportunity for public comment, dependent upon the particulars of the scientific research plan submitted, consistent with the regulations at § 600.745.

Additionally, this notice invites comments on the shark research fishery, which NMFS implemented in 2008 through Amendment 2 to the 2006 Consolidated HMS FMP. NMFS conducts this research fishery under the auspices of the EFP program. Shark research fishery participants assist NMFS in collecting valuable shark life history and other scientific data required in shark stock assessments. Since NMFS established the shark research fishery, the research fishery has allowed for:

• Fishery-dependent data collection for current and future stock assessments;

• Cooperative research to meet NMFS' ongoing research objectives;

• Collection of updated life-history information used in the sandbar shark (and other species) stock assessments;

• Data collection on habitat preferences that might help reduce fishery interactions through bycatch mitigation;

• Evaluation of the utility of the mid-Atlantic closed area on the recovery of dusky sharks;

• Collection of hook-timer and pop-up satellite archival tag information to determine at-vessel and post-release mortality of dusky sharks; and

• Collection of sharks to update the weight conversion factor from dressed weight to whole weight.

Shark research fishery participants are subject to 100-percent observer coverage. In recent years, NMFS has required shark research fishery participants to retain all non-prohibited shark species dead at haulback and NMFS has counted that mortality against the appropriate quotas of the shark research fishery participant. Additionally, in recent years, all shark research fishery participants were limited to a very small number of dusky shark mortalities on a regional basis. Once the designated number of dusky shark mortalities occurs in a specific region, certain terms and conditions are applied (e.g., soak time limits). While NMFS has not yet determined the specific terms and conditions of the 2025 shark research fishery permits, NMFS expects the terms and conditions to be similar to those in 2024 permits. For example, participants may continue to be limited in the number of sets allowed on each trip and the number of hooks allowed on each set and on the vessel itself. A Federal Register notice describing the specific objectives for the 2025 shark research fishery and requesting applications from interested and eligible shark fishermen may be published in the near future. NMFS requests public comment regarding NMFS' intent to issue shark research fishery permits in 2025 during the comment period of this notice.

Table 1 summarizes the number of specimens authorized under EFPs and related permits thus far in 2024, as well as the number of specimens collected in 2023. The total amount of collections in 2023 was within the analyzed quotas for all quota-managed HMS species. The number of specimens collected in 2024 will be available when NMFS receives all 2024 interim and annual reports.

In all cases, NMFS counts mortalities associated with EFPs, SRPs, or display permits (except for larvae) against the appropriate quota. In 2023, NMFS issued a total of 46 EFPs, SRPs, display permits, and LOAs for the collection, sampling, and/or tagging of HMS and 3 shark research fishery permits. As of October 1, 2024, NMFS has issued a total of 46 EFPs, SRPs, display permits, and LOAs and 3 shark research fishery permits.

Table 1—Summary of HMS Exempted Fishing Permits Issued in 2023 and 2024, Other Than Shark Research Fishery Permits
Permit type | Species | 2023: Permits issued | 2023: Authorized fish (numbers) ¹ | 2023: Fish kept/ discarded dead (numbers) | 2024: Permits issued | 2024: Authorized fish (numbers) ¹
EFP | HMS | 2 | 184 | 0 | 2 | 84
| Shark | 8 | ¹ N/A | 0 | 6 | 0
| Tuna | 2 | 30 | 0 | 1 | 120
SRP | HMS | 8 | 1,027 | 6 | 5 | 540
| Shark | 0 | 0 | 0 | 1 | 1010
| Swordfish | 1 | 30 | 0 | 1 | 0
Display | HMS | 1 | 55 | 0 | 1 | 54
| Shark | 3 | 223 | 47 | 3 | 223
Total | 26 | 25 | 55 | 20 | ¹ 203
LOA | Shark | 20 | ¹ N/A | 102 | 26 | ¹ N/A
Note: “HMS” refers to multiple species being collected under a given permit type.
¹ NMFS issued some EFPs, SRPs, and LOAs for the purposes of tagging and the opportunistic sampling of HMS and were not expected to result in large amounts of mortality, thus no limits on sampling were set. NMFS will account for any mortality that may occur throughout 2024 under the appropriate HMS research and display quota.

NMFS does not currently anticipate any significant environmental impacts from the issuance of EFPs, SRPS, display permits, and shark research fishery permits, consistent with the assessment of such activities as identified in Categorical Exclusion B12 of the Companion Manual for NOAA Administrative Order 216-6A or within the environmental impacts analyses in existing HMS actions. Existing actions include the 1999 FMP, the 2006 Consolidated HMS FMP and its amendments, Amendment 2 to the 2006 Consolidated HMS FMP, the Environmental Assessment for the 2012 Swordfish Specifications, the Environmental Assessment for the 2022 Final Bluefin Tuna Quota and Atlantic Tuna Fisheries Management Measures, and the 2022 Zero Atlantic Shortfin Mako Shark Retention Limit Final Rule.

Final decisions on the issuance of any EFPs, SRPs, display permits, and shark research fishery permits will depend on:

• The submission of all required information about the proposed activities;

• NMFS' review of public comments received on this notice;

• The applicant's reporting history on past permits;

• If vessels or applicants were issued any prior violations of marine resource laws administered by NOAA;

• Consistency with relevant National Environmental Policy Act analyses; and

• Any consultations with appropriate Regional Fishery Management Councils, states, or Federal agencies.

Authority: 16 U.S.C. 971 et seq. and 16 U.S.C. 1801 et seq.

Dated: October 22, 2024.
Karen H. Abrams,
Acting Director, Office of Sustainable Fisheries, National Marine Fisheries Service.

[FR Doc. 2024-25023 Filed 10-25-24; 8:45 am]

BILLING CODE 3510-22-P